DEPARTMENT OF JUSTICE

Notice of Lodging of Proposed Consent Decree Under the Clean Air Act

On April, 22, 2015, the Department of Justice lodged a proposed Consent Decree with the United States District Court for the District of Colorado in the lawsuit entitled United States and State of Colorado v. Noble Energy, Inc., Civil Action No. 1:15-cv-00841.

The case concerns alleged violations of the Clean Air Act and provisions of Colorado's federally approved State Implementation Plan relating to emissions of volatile organic compounds (“VOC”) from condensate storage tanks that are, or were until recently, part of Noble's oil and natural gas production operations in the Denver-Julesburg Basin in Boulder, Broomfield, and Weld counties, Colorado, a non-attainment area for ground level ozone known as the “8-hour Ozone Control Area.” At issue are leaks of vapors from tanks storing hydrocarbon liquids known as “pressurized liquids” or “condensate” which are separated from natural gas near the wellhead. The settlement covers 3,472 tank batteries (referred to in the Consent Decree as “Tank Systems”) which comprise all of Noble's condensate storage tanks in the nonattainment area equipped with Vapor Control Systems pursuant to Colorado Air Quality Control Regulation Number 7 to achieve required system-wide emission reductions. Under the terms of the Consent Decree Noble is required to determine the potential peak flow of vapors from each Tank System, conduct an engineering evaluation of the capacity of each Vapor Control System, undertake corrective actions as needed, and verify the adequacy of the corrective actions at all of the locations covered by the Decree. Noble will complete two Supplemental Environmental Projects (“SEPs”) at a cost of no less than $2 million. The first SEP, titled “Pressurized Hydrocarbon Liquids and Analysis SEP,” will involve a scientific study of the reliability, and ways to improve the reliability, of methods used to sample and analyze pressurized liquids/condensate at a cost of at least $1 million. A report of the study will be prepared and posted on Noble's Web site. The second SEP, titled “Wood Burning Appliance Changeout SEP,” will involve replacing or retrofitting inefficient, higher polluting wood-burning or coal appliances in the non-attainment area at a cost of at least $1 million. Noble will also spend at least $4.5 million to complete five environmental mitigation projects. Noble will pay a $4.95 million civil penalty to the United States and Colorado.

The publication of this notice opens a period for public comment on the Consent Decree. Comments should be addressed to the Assistant Attorney General, Environment and Natural Resources Division, and should refer to United States and State of Colorado v. Noble Energy, Inc., D.J. Ref. No. 90-5-2-1-10811. All comments must be submitted no later than thirty (30) days after the publication date of this notice. Comments may be submitted either by email or by mail:

To submit comments: | Send them to:
By e-mail | pubcomment-ees.enrd@usdoj.gov.
By mail | Assistant Attorney General, U.S. DOJ-ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ-ENRD, P.O. Box 7611, Washington, DC 20044-7611.

Please enclose a check or money order for $39.75 (25 cents per page reproduction cost) payable to the United States Treasury for a copy of the Consent Decree without appendices. For a paper copy without the appendices, the cost is $22.00.

Robert Brook,
Assistant Section Chief, Environmental Enforcement Section, Environment and Natural Resources Division.

[FR Doc. 2015-09665 Filed 4-24-15; 8:45 am]

BILLING CODE 4410-15-P